DEPARTMENT OF HEALTH AND HUMAN SERVICES

Health Resources and Services Administration

Agency Information Collection Activities: Submission to OMB for Review and Approval; Public Comment Request; National Survey of Organ Donation Attitudes and Practices, OMB No. 0915-0290—Extension

AGENCY: Health Resources and Services Administration (HRSA), Department of Health and Human Services.

ACTION: Notice.

SUMMARY: In compliance with the Paperwork Reduction Act of 1995, HRSA has submitted an Information Collection Request (ICR) to the Office of Management and Budget (OMB) for review and approval. Comments submitted during the first public review of this ICR will be provided to OMB. OMB will accept further comments from the public during the review and approval period.

DATES: Comments on this ICR should be received no later than July 8, 2021.

ADDRESSES: Submit your comments, including the ICR Title, to the desk officer for HRSA, either by email to OIRA_submission@omb.eop.gov or by fax to 202-395-5806.

FOR FURTHER INFORMATION CONTACT: To request a copy of the clearance requests submitted to OMB for review, email Lisa Wright-Solomon, the HRSA Information Collection Clearance Officer at paperwork@hrsa.gov or call (301) 443-1984.

SUPPLEMENTARY INFORMATION: Information Collection Request Title: National Survey of Organ Donation Attitudes and Practices, OMB No. 0915-0290—Extension.

Abstract: HRSA is requesting approval by OMB for an extension of a previously approved collection of information (OMB control number 0915-0290). The National Survey of Organ Donation Attitudes and Practices is conducted approximately every 6-7 years and serves a critical role in providing HRSA and the donation community with data regarding why Americans choose to donate organs, current barriers to donation, and possible paths to increasing donations. Survey data and derived analytic insights help HRSA develop and target appropriate messages for public outreach and educational initiatives.

A 60-day notice published in the Federal Register on April 19, 2021, vol. 86, No. 73; pp. 20374. There were no public comments.

Need and Proposed Use of the Information: OMB previously approved this survey and HRSA fielded it during 2005, 2012, and 2019. Results of the data collected from this survey will help develop appropriate messages for future public outreach and educational initiatives to increase awareness about organ donation and ultimately the number of registered donors.

Likely Respondents: A nationally representative sample of adults over the age of 18 with a high number of responses from populations of interest such as racial-ethnic minorities, including African American, Asian, Native American, and Hispanic respondents, as well as respondents of all age groups and education levels.

Burden Statement: Burden in this context means the time expended by persons to generate, maintain, retain, disclose, or provide the information requested. This includes the time needed to review instructions; to develop, acquire, install, and utilize technology and systems for collecting, validating, verifying, processing and maintaining information, and disclosing and providing information; to train personnel and be able to respond to a collection of information; to search data sources; to complete and review the collection of information, and to transmit or otherwise disclose the information. A summary of the total annual burden hours estimated for this ICR is in the table below.

Total Estimated Annualized Burden—Hours
Form name | Number of respondents | Number of responses per respondent | Total responses | Average burden per response (in hours) | Total burden hours
National Survey of Organ Donation Attitudes and Practices Telephone (English and Spanish Versions) | 2,000 | 1 | 2,000 | 0.37 | 740
National Survey of Organ Donation Attitudes and Practices Web Online Panel (English and Spanish Versions) | 8,000 | 1 | 8,000 | 0.27 | 2,160
Total | 10,000 |  | 10,000 |  | 2,900

HRSA specifically requests comments on (1) the necessity and utility of the proposed information collection for the proper performance of the agency's functions; (2) the accuracy of the estimated burden; (3) ways to enhance the quality, utility, and clarity of the information to be collected; and (4) the use of automated collection techniques or other forms of information technology to minimize the information collection burden.

Maria G. Button,
Director, Executive Secretariat.

[FR Doc. 2021-11959 Filed 6-7-21; 8:45 am]

BILLING CODE 4165-15-P